DEPARTMENT OF TRANSPORTATION

Federal Aviation Administration

14 CFR Part 39

[Docket No. 2001-NM-395-AD; Amendment 39-13228; AD 2003-14-09]

RIN 2120-AA64

Airworthiness Directives; Boeing Model 767 Series Airplanes

AGENCY: Federal Aviation Administration, DOT.

ACTION: Final rule.

SUMMARY: This amendment supersedes an existing airworthiness directive (AD), applicable to certain Boeing Model 767 series airplanes, that currently requires repetitive detailed inspections to detect cracked, corroded, or stained collar fittings on both inboard trailing edge flaps; and follow-on corrective actions, if necessary. This amendment expands the applicability in the existing AD, and adds repetitive inspections for discrepancies of the collar fittings, torque tube, and splined bushings on both inboard trailing edge flaps; and follow-on and corrective actions, if necessary. The actions specified by this AD are intended to prevent failure of the collar fittings, which could result in separation of the inboard trailing edge flap and consequent reduced controllability of the airplane. This action is intended to address the identified unsafe condition.

DATES: Effective August 22, 2003.

The incorporation by reference of Boeing Alert Service Bulletin 767-57A0066, Revision 3, including Appendices A and B, dated December 19, 2001, is approved by the Director of the Federal Register as of August 22, 2003.

The incorporation by reference of Boeing Alert Service Bulletin 767-57A0066, Revision 1, dated August 6, 1998, as listed in the regulations, was approved previously by the Director of the Federal Register as of November 12, 1998 (63 FR 57577, October 28, 1998).

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION: A proposal to amend part 39 of the Federal Aviation Regulations (14 CFR part 39) by superseding AD 98-22-12, amendment 39-10859 (63 FR 57577, October 28, 1998), which is applicable to certain Boeing Model 767 series airplanes, was published in the Federal Register on January 3, 2003 (68 FR 324). The action proposed to continue to require repetitive detailed inspections to detect cracked, corroded, or stained collar fittings on both inboard trailing edge flaps; and follow-on corrective actions, if necessary. The new action proposed to expand the applicability in the existing AD, and would add repetitive inspections for discrepancies of the collar fittings, torque tube, and splined bushings on both inboard trailing edge flaps; and follow-on and corrective actions, if necessary.

Comments

Interested persons have been afforded an opportunity to participate in the making of this amendment. Due consideration has been given to the comments received. One commenter concurs with the contents of the proposed AD.

Request Credit for Previously Accomplished Inspections

One commenter asks for credit for accomplishment of the inspections required by paragraphs (c) and (f) of the proposed AD before the effective date of the AD. The commenter states that the information specified in paragraph (f) provides instructions for operators that have done paragraph (c) for an initial inspection and follow-on actions if the corrosion inhibiting compound (CIC) Titanine JC5A has been used, or if the type of CIC that was used is unknown. The commenter states that there are no guidelines for inspection of airplanes on which BMS 3-27 CIC was used. The commenter adds that airplanes on which the inspections were done in accordance with Part 3 of the referenced service bulletin should meet the inspection requirements, provided that BMS 3-27 CIC was used and the repetitive inspections are being done in lieu of the terminating action.

We agree with the commenter for the reasons provided. We have added a new paragraph (g) to this final rule (and reordered subsequent paragraphs accordingly) to give credit for the inspections required by paragraphs (c) and (f) of the final rule done before the effective date of the AD, under the conditions set forth by the commenter.

Request To Change Paragraph (a)(2)

One commenter asks that paragraph (a)(2) of the proposed AD be changed to add the option of installing a serviceable collar fitting. The commenter states that a serviceable collar fitting is crack- and corrosion-free, and provides the same level of safety as a new collar fitting.

We agree with the commenter as allowing the option of installing a serviceable collar fitting to paragraph (a)(2) of this final rule would be a relieving action for operators. Therefore, paragraph (a)(2) of the final rule has been changed accordingly.

Request To Clarify or Remove Paragraph (f)

One commenter asks that paragraph (f) of the proposed AD be changed for clarification, or removed from the proposed AD. The commenter states that it is not clear which “inspections” paragraph (f) is referencing, and the commenter reiterates the contents of that paragraph. The commenter does not understand what the inspection required by paragraph (a) of the proposed AD is for, or why Revision 2 of the referenced service bulletin is singled out. Nor does the commenter understand what the most recent inspection is. The commenter asks if the inspection specified is the spline or the collar fitting inspection. The commenter adds that if the inspection is the spline inspection, it will cause an undue burden on the operator because 22 airplanes will be required to have their flaps removed within 90 days.

The same commenter recommends that paragraph (f) be removed from the proposed AD because it appears to be applicable to any airplane on which paragraph (c) of the proposed AD has not been previously complied with, and paragraph (c) requires the spline inspection. The commenter adds that, until the spline inspection is done, the 120-day collar fitting inspections are being done and any discrepancies will be found before failure occurs.

We agree that paragraph (f) of the proposed AD needs clarification; however, we do not agree that it should be removed. We have rewritten paragraph (f) of the final rule for clarity and defined the type of inspection required. Revision 2 of the service bulletin is “singled out” because it recommended using CIC Titanine JC5A, which does not provide adequate corrosion protection for the joints specified, and Revision 3 recommends refinishing those joints with CIC BMS 3-27 or BMS 3-38, which does provide adequate corrosion protection. The definition of “the most recent inspection,” as specified in paragraph (f) of the proposed AD, is the last spline inspection completed as of the effective date of the AD. In addition, we have added sub-paragraphs (f)(1) and (f)(2) to this final rule to add an optional inspection, which would extend the compliance time for the current inspection to 6 years and adds the option of doing either the Part 1 (which is not as extensive as Part 3) or the Part 3 inspection within 3 years after the most recent inspection done in accordance with Revision 2 of the service bulletin, or within 90 days after the effective date of this AD. This change matches the compliance time recommended in Revision 3 of the referenced service bulletin, and also alleviates any undue burden to operators caused by the compliance time specified in the proposed AD.

Request To Change Cost Impact

One commenter estimates the tasks generated by the inspections specified in the proposed AD would require 128 work hours per airplane at an overall cost of $985,600. The commenter states that the proposed AD specifies 2 work hours for the current inspections and 2 work hours for the new inspections. The commenter notes that these estimates are substantially lower than the actual cost impact. The commenter also states that there is no cost specified for the spline rework or replacement.

We agree that access to the area under the inboard trailing edge flaps is not a task normally accomplished during routine maintenance, as the flaps are never removed during such maintenance, so the work hours required for access and close up should be added. We have changed the work hours for the spline inspection specified in the Cost Impact section in this final rule from 2 to 127 work hours (we estimate an additional 125 work hours). We also have reduced the number of airplanes specified in this section as it has changed since issuance of the proposed AD. We do not agree that the work hours for the spline rework or replacement should be added to the final rule as this is an on-condition action that would be done only if discrepancies are found. No change to the final rule is necessary in this regard.

Request for Editorial Changes

One commenter asks for the following editorial changes to the proposed AD:

• Change the service bulletin reference in paragraph (a)(3) of the proposed AD from “Part 4” to “Figure 4.” The commenter states that Part 4 provides spline rework instructions, and Figure 4 provides instructions for the external corrosion removal for the collar fitting.

We agree with the commenter, as we inadvertently referenced “Part 4” instead of “Figure 4” in paragraph (a)(3) of the proposed AD. We have changed paragraph (a)(3) of this final rule accordingly.

• Change paragraph (a)(4)(ii) of the proposed AD to reference Part 3 of the service bulletin as follows “* * * before further flight, repair the corrosion in accordance with Part 3 and Part 4 of the Accomplishment Instructions of Revision 3 of the service bulletin * * *” The commenter states that Part 3 provides procedures for spline component removal and an inspection required before accomplishing the rework in Part 4 of the service bulletin.

We agree with the commenter that paragraph (a)(4)(ii) of the proposed AD, which would require accomplishment of Part 2 and repair of any corrosion in accordance with Part 4, should be clarified. Part 2 of the service bulletin specifies doing Part 3 and Part 4 if corrosion of the collar fittings and torque tube is found. We have changed paragraph (a)(4)(ii) of this final rule accordingly.

• Change paragraph (d) of the proposed AD to add, “* * * refinish and reassemble the parts in accordance with the service bulletin.”

We agree with the commenter that paragraph (d) of the proposed AD should be changed. We have changed paragraph (d) of this final rule, for clarification and consistency, to state, “* * * refinish and reassemble the parts with liberal coatings of corrosion-inhibiting compound (CIC) BMS 3-27 or BMS 3-38, in accordance with the service bulletin.”

• Change paragraph (h) of the proposed AD to explicitly specify line numbers 704, 719, and 720, and change the end of the last sentence, for clarification, to read, at the time specified in paragraph (g) of this AD.” The commenter states that this change is necessary for clarification of the applicability and compliance time specified in this paragraph. The commenter notes that paragraph (h) of the proposed AD is applicable only to those three airplanes which were assembled with BMS 3-27, not the MIL-G-23827 grease, after the proposed AD was issued. The commenter adds that without this change operators may be confused as to the applicability and the exact compliance time.

We agree with the commenter that paragraph (i) of the final rule (paragraph (h) of the proposed AD) should be changed, for the reasons specified. Paragraph (i) of this final rule has been changed to specify line numbers 704, 719, and 720, and to add, “at the time specified in paragraph (h) of this AD” (paragraph (g) of the proposed AD) at the end of the last sentence, for clarity.

Conclusion

After careful review of the available data, including the comments noted above, the FAA has determined that air safety and the public interest require the adoption of the rule with the changes previously described. The FAA has determined that these changes will neither increase the economic burden on any operator nor increase the scope of the AD.

Cost Impact

There are approximately 691 airplanes of the affected design in the worldwide fleet. The FAA estimates that 293 airplanes of U.S. registry will be affected by this AD.

The actions that are currently required by AD 98-22-12 take approximately 2 work hours per airplane to accomplish, at an average labor rate of $60 per work hour. Based on these figures, the cost impact of the currently required actions is estimated to be $120 per airplane, per inspection cycle.

The new inspections and refinishing that are required by this AD action will take approximately 127 work hours (including access and close up) per airplane to accomplish, at an average labor rate of $60 per work hour. Based on these figures, the cost impact of the inspections and refinishing required by this AD on U.S. operators is estimated to be $2,232,660, or $7,620 per airplane, per cycle.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption “ADDRESSES.”

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10859 (63 FR 57577, October 28, 1998), and by adding a new airworthiness directive (AD), amendment 39-13228, to read as follows:

2003-14-09 Boeing: Amendment 39-13228. Docket 2001 NM-395-AD. Supersedes AD 98-22-12, Amendment 39-10859.

Applicability: Model 767 series airplanes, line numbers 1 through 749 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (k)(1) of this AD. The request should include an assessment of the effect of the modification, alteration, or repair on the unsafe condition addressed by this AD; and, if the unsafe condition has not been eliminated, the request should include specific proposed actions to address it.

Compliance: Required as indicated, unless accomplished previously.

To prevent failure of the collar fittings on the inboard trailing edge flaps, which could result in separation of the flap and consequent reduced controllability of the airplane, accomplish the following:

Restatement of Requirements of AD 98-22-12

Detailed Inspections/Corrective Actions

(a) For airplanes having line numbers 1 through 721 inclusive, except as provided by paragraphs (c) and (e) of this AD: Within 8 years since the date of manufacture of the airplane, or within 90 days after November 12, 1998 (the effective date of AD 98-22-12, amendment 39-10859), whichever occurs later; perform a detailed inspection of the collar fittings of both inboard trailing edge flaps to detect cracks, corrosion, or staining, in accordance with Part 1 of the Accomplishment Instructions of Boeing Alert Service Bulletin 767-57A0066, Revision 1, dated August 6, 1998; or Revision 3, including Appendices A and B, dated December 19, 2001. As of the effective date of this AD, only Revision 3 shall be used.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If no cracked, corroded, or stained collar fitting is found, repeat the detailed inspection required by paragraph (a) of this AD thereafter at intervals not to exceed 120 days until accomplishment of paragraph (d) or (e) of this AD, as applicable.

(2) If any cracked collar fitting is found, prior to further flight, install a new or serviceable collar fitting in accordance with Part 2 of the Accomplishment Instructions of the alert service bulletin.

(3) If any corroded collar fitting is found, prior to further flight, repair the corrosion in accordance with Figure 4 of the Accomplishment Instructions of Revision 3 of the service bulletin; or in accordance with a method approved by the Manager, Seattle Aircraft Certification Office (ACO), FAA.

(4) If any stained collar fitting is found, accomplish the requirements of paragraphs (a)(4)(i) and (a)(4)(ii) of this AD at the compliance times specified.

(i) Repeat the detailed inspection required by paragraph (a) of this AD thereafter at intervals not to exceed 45 days; and

(ii) Within 18 months after finding the stained collar fitting, accomplish Part 2 of the Accomplishment Instructions of the alert service bulletin. If any corroded collar fitting is found, before further flight, repair the corrosion in accordance with Part 3 and Part 4 of the Accomplishment Instructions of Revision 3 of the service bulletin; or in accordance with a method approved by the Manager, Seattle ACO.

New Requirements of This AD

Detailed Inspection

(b) For airplane line number 723: Within 8 years since the date of manufacture of the airplane, or within 90 days after the effective date of this AD, whichever is later; do a detailed inspection of the collar fittings of both inboard trailing edge flaps to detect cracks, corrosion, or staining, as specified in paragraph (a) of this AD, in accordance with Part 1 of the Accomplishment Instructions of Boeing Alert Service Bulletin 767-57A0066, Revision 3, including Appendices A and B, dated December 19, 2001. Then do the applicable actions specified in paragraphs (a)(1), (a)(2), (a)(3), and (a)(4) of this AD.

Repetitive Inspections/Follow-On and Corrective Actions

(c) For airplanes having line numbers 1 through 703 inclusive, 705 through 715 inclusive, 717, 718, 721, and 723; and for the right-hand side of the airplane on line number 716: Within 10 years since the date of manufacture of the airplane, or within 4 years after the effective date of this AD, whichever is later; do a spline inspection of the collar fittings, torque tube, and splined bushings for discrepancies (including cracks, fractures, corrosion, corrosion pits, and light wear), in accordance with Part 3 of the Accomplishment Instructions of Boeing Alert Service Bulletin 767-57A0066, Revision 3, including Appendices A and B, dated December 19, 2001. Accomplishment of the inspections required by this paragraph, before the initial inspection required by paragraph (a) of this AD, meets the inspection requirements in paragraph (a) of this AD.

(d) If no discrepancy is found during any inspection required by paragraph (c) or (h) of this AD, before further flight, refinish and reassemble the parts with liberal coatings of corrosion-inhibiting compound (CIC) BMS 3-27 or BMS 3-38, in accordance with the Accomplishment Instructions of Boeing Alert Service Bulletin 767-57A0066, Revision 3, including Appendices A and B, dated December 19, 2001; and repeat the inspection every 24,000 flight cycles or 12 years, whichever is first. Accomplishment of this paragraph terminates the repetitive inspections required by paragraph (a) of this AD.

(e) If any discrepancy is found during any inspection required by paragraph (c) or (h) of this AD, before further flight, do the actions specified in either paragraph (e)(1) or (e)(2) of this AD in accordance with the Accomplishment Instructions of Boeing Alert Service Bulletin 767-57A0066, Revision 3, including Appendices A and B, dated December 19, 2001. Accomplishment of this paragraph terminates the repetitive inspections required by paragraph (a) of this AD.

(1) Replace the affected part with a new part, and reassemble the joint with liberal coatings of CIC BMS 3-27 or BMS 3-38, in accordance with the Accomplishment Instructions of the service bulletin. Repeat the applicable inspection specified in paragraph (c) or (h) of this AD every 24,000 flight cycles or 12 years, whichever is first.

(2) Rework the affected part, and reassemble the joint with liberal coatings of CIC BMS 3-27 or BMS 3-38, in accordance with the Accomplishment Instructions of the service bulletin. Repeat the applicable inspection specified in paragraph (c) or (h) of this AD, as specified in paragraph (e)(2)(i), (e)(2)(ii), or (e)(2)(iii) of this AD, as applicable.

(i) If five or fewer spline lengths are reworked per Figure 8 of the service bulletin, repeat the inspection every 24,000 flight cycles or 12 years, whichever is first.

(ii) If more than five spline lengths, but fewer than or equal to the maximum number of spline lengths allowed per Figure 8 of the service bulletin are reworked, repeat the inspection every 12,000 flight cycles or 6 years, whichever is first.

(iii) If more than the maximum number of spline lengths allowed per Figure 8 of the service bulletin are reworked, before further flight, replace the splined component and repeat the inspection every 24,000 flight cycles or 12 years, whichever is first.

Additional Inspections for Airplanes Inspected per Revision 2 of the Service Bulletin

(f) For any airplane on which the spline inspection was done in accordance with Part 3 of the Accomplishment Instructions of Boeing Alert Service Bulletin 767-57A0066, Revision 2, dated February 18, 1999; and on which the CIC Titanine JC5A was used, or the maintenance records are inconclusive of the type of CIC used: Do the applicable inspection specified in Part 1 or Part 3 of the Accomplishment Instructions of Boeing Alert Service Bulletin 767-57A0066, Revision 3, including Appendices A and B, dated December 19, 2001; at the applicable time specified in paragraph (f)(1) or (f)(2) of this AD.

(1) Within 3 years after the last spline inspection done in accordance with Revision 2 of the service bulletin, or within 90 days after the effective date of this AD, whichever is later, do the applicable inspection specified in either Part 1 or Part 3 of Revision 3 of the service bulletin. Before further flight after accomplishment of the Part 1 inspection, do the applicable follow-on actions specified in paragraphs (a)(1), (a)(2), (a)(3), and (a)(4) of this AD. Before further flight after accomplishment of the Part 3 inspection, do the applicable follow-on actions specified in paragraphs (d) and (e) of this AD.

(2) Within 6 years after the last spline inspection done in accordance with Revision 2 of the service bulletin, do the spline inspection specified in Part 3 of Revision 3 of the service bulletin, unless already accomplished per paragraph (f)(1) of this AD. Before further flight after accomplishment of the inspection, do the applicable follow-on actions specified in paragraphs (d) and (e) of this AD.

Credit for Previously Accomplished Inspections

(g) Accomplishment of the spline inspection of the collar fittings, torque tube, and splined bushings per Part 3 of the Accomplishment Instructions of Boeing Alert Service Bulletin 767-57A0066, Revision 2, dated February 18, 1999; and on which the maintenance records are conclusive that CIC Titanine JC5A was not used, is considered acceptable for the initial inspections required by paragraphs (c) and (h) of this AD.

Airplanes Assembled With BMS 3-27

(h) For airplanes having line numbers 704, 719, 720, 722, and 724 through 749 inclusive; and for the left-hand side of the airplane on line number 716: Within 12 years since the date of manufacture of the airplane, or within 24,000 flight cycles after the effective date of this AD, whichever is first; do a spline inspection of the collar fittings, torque tube, and splined bushings for discrepancies (including cracks, fractures, corrosion, corrosion pits, and light wear). Do the inspection in accordance with Part 3 of the Accomplishment Instructions of Boeing Alert Service Bulletin 767-57A0066, Revision 3, including Appendices A and B, dated December 19, 2001; then, before further flight, do the applicable actions specified in either paragraph (d) or (e) of this AD.

(i) For airplanes having line numbers 704, 719, and 720: If the initial inspection required by paragraph (a) of this AD has not been done as of the effective date of this AD, operators may do the inspection required by paragraph (h) of this AD in lieu of the inspection required by paragraph (a) of this AD, at the time specified in paragraph (h) of this AD.

Use of Titanine JC5A Prohibited

(j) As of the effective date of this AD, no person shall use the CIC Titanine JC5A on the collar fittings, torque tube, and splined bushings on any airplane.

Alternative Methods of Compliance

(k)(1) An alternative method of compliance or adjustment of the compliance time that provides an acceptable level of safety may be used if approved by the Manager, Seattle ACO. Operators shall submit their requests through an appropriate FAA Principal Maintenance Inspector, who may add comments and then send it to the Manager, Seattle ACO.

(2) Alternative methods of compliance, approved previously in accordance with AD 98-22-12, Amendment 39-10859, are not considered to be approved as alternative methods of compliance with this AD.

Note 3: Information concerning the existence of approved alternative methods of compliance with this AD, if any, may be obtained from the Seattle ACO.

Special Flight Permits

(l) Special flight permits may be issued in accordance with sections 21.197 and 21.199 of the Federal Aviation Regulations (14 CFR 21.197 and 21.199) to operate the airplane to a location where the requirements of this AD can be accomplished.

Incorporation by Reference

(m) Unless otherwise provided in this AD, the actions shall be done in accordance with Boeing Alert Service Bulletin 767-57A0066, Revision 1, dated August 6, 1998; or Boeing Alert Service Bulletin 767-57A0066, Revision 3, including Appendices A and B, dated December 19, 2001.

(1) The incorporation by reference of Boeing Alert Service Bulletin 767-57A0066, Revision 3, including Appendices A and B, dated December 19, 2001, is approved by the Director of the Federal Register in accordance with 5 U.S.C. 552(a) and 1 CFR part 51.

(2) The incorporation by reference of Boeing Alert Service Bulletin 767-57A0066, Revision 1, dated August 6, 1998, as listed in the regulations, was approved previously by the Director of the Federal Register as of November 12, 1998 (63 FR 57577, October 28, 1998).

(3) Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(n) This amendment becomes effective on August 22, 2003.

Issued in Renton, Washington, on July 7, 2003.
Ali Bahrami,
Acting Manager, Transport Airplane Directorate, Aircraft Certification Service.

[FR Doc. 03-17692 Filed 7-17-03; 8:45 am]

BILLING CODE 4910-13-P